DEPARTMENT OF AGRICULTURE

Office of Advocacy and Outreach

7 CFR Part 2502

RIN 0503-AA49

Agricultural Career and Employment Grants Program; Withdrawal

AGENCY: Office of Advocacy and Outreach, Departmental Management, USDA.

ACTION: Proposed rule; withdrawal.

SUMMARY: On October 27, 2011, USDA submitted a proposed rule concerning grants to assist agricultural employers and farm workers by improving the supply, stability, safety, and training of the agricultural labor force. The Department intended this document to be submitted as an interim rule. Therefore, the proposed rule is withdrawn. In the Rules and Regulations section of this issue of the Federal Register, USDA is publishing the interim rule.

DATES: As of November 8, 2011, the proposed rule published October 27, 2011, at 76 FR 66656, is withdrawn.

FOR FURTHER INFORMATION CONTACT: Christine Chavez, Program Leader, Farmworker Coordination, Office of Advocacy and Outreach, U.S. Department of Agriculture, 1400 Independence Avenue SW., Stop 9801, Washington, DC 20250, Voice: (202) 205-4215, Fax: (202) 720-7136, Email: christine.chavez@osec.usda.gov.

SUPPLEMENTARY INFORMATION: USDA is withdrawing its proposed rule of October 27, 2011, entitled “Agricultural Career and Employment Grants Program,” because it was intended to publish in the Federal Register as an interim rule. This document officially withdraws the proposed rule. The interim rule can be found in the Rules and Regulation section of this issue of the Federal Register.

Signed in Washington, DC, on November 3, 2011.
Pearlie Reed,
Assistant Secretary for Administration for the Office of the Secretary.

[FR Doc. 2011-29033 Filed 11-7-11; 8:45 am]

BILLING CODE P